ENVIRONMENTAL PROTECTION AGENCY

[FRL-9926-45-Region-1]

Notice of Availability of Final NPDES General Permits MAG070000 And NHG070000 for Discharges From Dewatering Activities in the Commonwealth of Massachusetts and the State of New Hampshire: The Dewatering General Permit (DGP)

AGENCY: Environmental Protection Agency (EPA).

ACTION: Notice of Availability of Final NPDES General Permits MAG070000 And NHG070000.

SUMMARY: The Director of the Office of Ecosystem Protection, EPA-New England, is providing a notice of availability of final National Pollutant Discharge Elimination System (NPDES) general permits for dewatering activity discharges to certain waters of the Commonwealth of Massachusetts and the State of New Hampshire. These General Permits replace the Dewatering General Permits (DGP), which expired on September 30, 2013.

DATES: The DGP will be effective May 20, 2015 and will expire five years from the effective date. In accordance with 40 CFR part 23, this permit shall be considered issued for the purpose of judicial review on May 4, 2015. Under section 509(b) of the Clean Water Act, judicial review can be had by filing a petition for review in the United States Court of Appeals within 120 days after the permit is considered issued for purposes of judicial review. Under section 509(b)(2) of the Clean Water Act, the requirements in this permit may not be challenged later in civil or criminal proceedings to enforce these requirements. In addition, this permit may not be challenged in other agency proceedings.

ADDRESSES: The required notice of intent (NOI) information to obtain permit coverage is provided in the DGP. This information shall be submitted to EPA. NOIs may be submitted electronically or via mail at the addresses provided below:

(1) Email: GeneralPermit.Dewatering@epa.gov.

(2) Mail: Victor Alvarez, U.S. EPA—Region 1, 5 Post Office Square—Suite 100, Mail Code OEP06-4, Boston, MA 02109-3912.

FOR FURTHER INFORMATION CONTACT: Additional information concerning the final General Permits may be obtained between the hours of 9 a.m. and 5 p.m. Monday through Friday, excluding holidays, from Victor Alvarez, Office of Ecosystem Protection, 5 Post Office Square—Suite 100, Boston, MA 02109-3912; telephone: 617-918-1572; email: alvarez.victor@epa.gov

SUPPLEMENTARY INFORMATION: EPA is reissuing two general permits for the discharge of uncontaminated water from construction dewatering intrusion and/or stormwater accumulation from sites that disturb less than one acre of land and short and long term dewatering of foundation sumps. While the final general permits are two distinct permits, for convenience, EPA has grouped them together in a single document and has provided a single fact sheet for the two draft general permits. This document refers to the final general “permit” in the singular. The final general permit, appendices and fact sheet are available at: http://www.epa.gov/region1/npdes/dewatering.html.

The General Permit establishes Notice of Intent (NOI) requirements, effluent limitations, standards, prohibitions, and management practices for facilities with construction dewatering of groundwater intrusion and/or storm water accumulation from sites less than one acre and short-term and long-term dewatering of foundation sumps.

The draft permit includes effluent limitations based on best professional judgment (BPJ) and water quality considerations. When EPA has not promulgated effluent limitations for a category of discharges, or if an operator discharges a pollutant not covered by an effluent limitation guideline, effluent limitations may be based on the BPJ of the agency or permit writer. The BPJ limits in the general permit are in the form of non-numeric control measures, commonly referred to as best management practices (BMPs). The effluent limits established in the draft permit assures that the surface water quality standards of the receiving water are protected, maintained and/or attained. Discharges that contain pollutants in quantities which represent reasonable potential to cause or contribute to violations of water quality standards will not be granted coverage under this general permit. Those dischargers must either apply for an individual permit or seek coverage under EPA's Remediation General Permit.

Other Legal Requirements

Endangered Species Act (ESA)

The ESA provisions have been updated from the 2008 general permit and new species of concern have been added. EPA has received concurrence from U.S Fish and Wildlife Service and National Marine Fisheries Service in connection with this final permit.

Authority: This action is being taken under the Clean Water Act, 33 U.S.C. 1251 et seq.

Dated: March 31, 2015.
H. Curtis Spalding,
Regional Administrator.

[FR Doc. 2015-09015 Filed 4-17-15; 8:45 am]

BILLING CODE 6560-50-P